DEPARTMENT OF HEALTH AND HUMAN SERVICES

Centers for Disease Control and Prevention

Public Health Service Act (PHS); Delegation of Authority

Notice is hereby given that pursuant to Section 3306(14) of the Public Health Service Act (PHS), I have delegated to the Director, Centers for Disease Control and Prevention (CDC), and the Director, National Institute for Occupational Safety and Health (NIOSH), with authority to redelegate, all authority specified in Section 3306(14)(A)(i) of the PHS Act, as amended by the James Zadroga 9/11 Health and Compensation Act of 2010 (Pub. L. 111-347), except those specific authorities described in section 3306(14)(B) of the PHS Act. This delegation is in addition to those duties specifically assigned to the Director, NIOSH, by Section 3306(14)(A)(ii) of the PHS Act.

Additionally, notice is hereby given that pursuant to Section 3306(14) of the PHS Act, I hereby delegate to the Administrator, Centers for Medicare & Medicaid Services (CMS), with authority to redelegate, responsibility for disbursing payment for the program described in Title XXXIII of the PHS Act, as amended by the James Zadroga 9/11 Health and Compensation Act of 2010 (Pub. L. 111-347). Responsibility for determining eligibility and enrolling individuals in the program described in Title XXXIII of the PHS Act and responsibility for determining the payment amounts to be disbursed shall remain with the Director, NIOSH, CDC, pursuant to the delegation in the previous paragraph.

These authorities shall be exercised under the Department's existing delegation of authority and policy on regulations. This authority must also be exercised in accordance with the Department's established policies, procedures, guidelines and regulations and with all other pertinent issuances.

This delegation became effective upon date of signature. In addition, I have affirmed and ratified any actions taken by the Administrator, CMS, the Director, CDC, the Director, NIOSH, or other CMS and CDC officials which involve the exercise of the authorities delegated herein prior to the effective date of this delegation.

Dated: May 18, 2011.
Kathleen Sebelius,
Secretary.

[FR Doc. 2011-13371 Filed 5-27-11; 8:45 am]

BILLING CODE 4160-18-P